DEPARTMENT OF THE INTERIOR

National Park Service

[NPS-AKRO-KOVA-GAAR-LACL-17792; PPAKAKROR4; PPMPRLE1Y.LS0000]

Notice of Public Meetings and Teleconferences for the National Park Service Alaska Region Subsistence Resource Commission Program

AGENCY: National Park Service, Interior.

ACTION: Meeting Notices.

SUMMARY: As required by the Federal Advisory Committee Act (5 U.S.C. Appendix 1-16), the National Park Service (NPS) is hereby giving notice that the Cape Krusenstern National Monument Subsistence Resource Commission (SRC), the Gates of the Arctic National Park SRC, and the Lake Clark National Park SRC will hold meetings to develop and continue work on NPS subsistence program recommendations, and other related regulatory proposals and resource management issues. The NPS SRC program is authorized by Section 808 of the Alaska National Interest Lands Conservation Act, (16 U.S.C. 3118), title VIII.

Cape Krusenstern National Monument SRC Meeting/Teleconference Date and Location: The Cape Krusenstern National Monument SRC will meet from 9:00 a.m. to 5:00 p.m. or until business is completed on Tuesday, March 31, 2015, at the Northwest Arctic Heritage Center in Kotzebue, AK. Teleconference participants must call the Cape Krusenstern National Monument office at (907) 442-3890 by Monday, March 30, 2015, prior to the meeting to receive teleconference passcode information. For more detailed information regarding this meeting or if you are interested in applying for SRC membership, contact Designated Federal Official Frank Hays, Superintendent, at (907) 442-3890, or via email frank_hays@nps.gov, or Clarence Summers, Subsistence Manager, at (907) 644-3603 or via email clarence_summers@nps.gov.

Gates of The Arctic National Park SRC Meeting/Teleconference Dates and Location: The Gates of the Arctic National Park SRC will meet from 9:00 a.m. to 5:00 p.m. or until business is completed on Tuesday, April 21, 2015, and Wednesday, April 22, 2015, at the Allakaket Public School in Allakaket, AK. Teleconference participants must contact Marcy Okada, Subsistence Manager, at (907) 457-5752 or via email marcy_okadar@nps.gov by Friday, April 17, 2015, prior to the meeting to receive teleconference passcode information. For more detailed information regarding this meeting, or if you are interested in applying for SRC membership, contact Designated Federal Official Greg Dudgeon, Superintendent, at (907) 457-5752, or via email greg_dudgeon@nps.gov, or Clarence Summers, Subsistence Manager, at (907) 644-3603, or via email clarence_summers@nps.gov.

Lake Clark National Park SRC Meeting/Teleconference Date and Location: The Lake Clark National Park SRC will meet from 1:00 p.m. to 4:00 p.m. or until business is completed on Wednesday, April 22, 2015, at the Community Center in Pedro Bay, AK. Teleconference participants must call the Lake Clark National Park office at (907) 644-3626, by Monday, April 20, 2015, prior to the meeting to receive teleconference passcode information. For more detailed information regarding this meeting, or if you are interested in applying for SRC membership, contact Designated Federal Official Margaret Goodro, Superintendent, at (907) 644-3626, or via email margaret_goodro@nps.gov, or Clarence Summers, Subsistence Manager, at (907) 644-3603, or via email clarence_summers@nps.gov.

Proposed Meeting Agenda: The agenda may change to accommodate SRC business. The proposed meeting agenda for each meeting includes the following:

1. Call to Order—Confirm Quorum

2. Welcome and Introductions

3. Review and Adoption of Agenda

4. Approval of Minutes

5. Superintendent's Welcome and Review of the Commission Purpose

6. Commission Membership Status

7. SRC Chair and Members' Reports

8. Superintendent's Report—NPS

9. Old Business

10. New Business

11. Federal Subsistence Board Update

12. Alaska Boards of Fish and Game Update

13. National Park Service Reports

a. Ranger Update

b. Resource Management Update

c. Subsistence Manager's Report

14. Public and Other Agency Comments

15. Work Session

16. Set Tentative Date and Location for Next SRC Meeting

17. Adjourn Meeting

SRC meeting locations and dates may change based on inclement weather or exceptional circumstances. If the meeting date and location are changed, the Superintendent will issue a press release and use local newspapers and radio stations to announce the rescheduled meeting.

SUPPLEMENTARY INFORMATION: SRC meetings are open to the public and will have time allocated for public testimony. The public is welcome to present written or oral comments to the SRC. SRC meetings will be recorded and meeting minutes will be available upon request from the Superintendent for public inspection approximately six weeks after the meeting. Before including your address, telephone number, email address, or other personal identifying information in your comment, you should be aware that your entire comment—including your personal identifying information—may be made publicly available at any time. While you may ask us in your comment to withhold your personal identifying information from public review, we cannot guarantee that we will be able to do so.

Dated: March 10, 2015.
Alma Ripps,
Chief, Office of Policy.

[FR Doc. 2015-05939 Filed 3-13-15; 8:45 am]

BILLING CODE 4310-EE-P